FEDERAL COMMUNICATIONS COMMISSION

47 CFR Part 73

[MM Docket Nos. 94-150, 92-51, and 87-154]

Attribution Rules; Correction

AGENCY: Federal Communications Commission.

ACTION: Final rule; correction.

SUMMARY: The Federal Communications Commission published in the Federal Register of February 13, 2001 (66 FR 9962), a document revising rules governing attribution of ownership interests. This document contains a correction to those rules.

DATES: Effective April 16, 2001.

FOR FURTHER INFORMATION CONTACT: Cyndi Thomas, 202-418-2120.

SUPPLEMENTARY INFORMATION: The Federal Communications Commission published a document amending parts 21, 73, and 76 in the Federal Register of February 13, 2001 (66 FR 9962). This document corrects the Federal Register as it appeared. In rule FR Doc. 01-3175 published on February 13, 2001 (66 FR 9962), the Commission is correcting § 73.3615 of the Commission's rules to reflect an amendment to § 73.3615(a)(3)(iv)(B), rather than § 73.3615(a)(3)(iii)(B). In rule FR Doc. 01-3175 published on February 13, 2001, make the following corrections:

§ 73.3615 [Corrected]

1. On page 9973, in the first column, in amendatory instruction 6, in the third line, “paragraph (a)(3)(iii)(B)” is corrected to read “paragraph (a)(3)(iv)(B)”.

2. On page 9973, in the first column, in § 73.3615, correct paragraph designation “(iii)” to read “(iv)”.

Federal Communications Commission.
Magalie Roman Salas,
Secretary.

[FR Doc. 01-4795 Filed 2-28-01; 8:45 am]

BILLING CODE 6712-01-P